NUCLEAR REGULATORY COMMISSION

[NRC-2017-0235]

Licensing Support Network Advisory Review Panel: Revised Meeting Notice

AGENCY: Nuclear Regulatory Commission.

ACTION: Notice of meeting; revised; request for comments.

SUMMARY: The U.S. Nuclear Regulatory Commission (NRC) will convene a meeting of the Licensing Support Network Advisory Review Panel (LSNARP) on February 27-28, 2018, at the NRC's Headquarters Offices in Room 01C3, Three White Flint North Building, 11601 Landsdown Street, Rockville, Maryland 20852. The NRC has revised the meeting date from January 30-31 to February 27-28, 2018, to allow more time to evaluate options for the potential reconstitution or replacement of the Licensing Support Network (LSN).

The meeting is being held to carry out the NRC's responsibilities under the U.S. Court of Appeals for the District of Columbia Circuit's decision in the case In re Aiken County, 645 F.3d 428 (D.C. Cir. 2011), and the Commission's July 31, 2017, direction in the Staff Requirements Memorandum associated with COMSECY-17-0019 that a next step in the Yucca Mountain licensing process is for the NRC to initiate information-gathering activities regarding reinstituting or replacing the LSN. The LSN, which was used to make documentary material associated with the Yucca Mountain adjudicatory proceeding available to hearing participants and the public, was decommissioned when the adjudication was suspended in 2011. The information being collected will assist the Commission in making efficient, informed decisions concerning appropriate means for reconstituting the LSN's functionality if the currently-suspended Yucca Mountain adjudication were to re-commence in the future.

The meeting will be open to the public pursuant to the Federal Advisory Committee Act (FACA) (Pub. L. 94-463, 86 Stat. 770-776) and will be conducted as a virtual meeting with representatives of LSNARP member organizations utilizing the capabilities of GoToMeeting® and the general public having access via GoToWebinar®. Representatives of LSNARP member organizations and the public may also attend in person at the location indicated above.

DATES: The NRC requests that by February 13, 2018, any LSNARP member wishing to propose an option for a reconstitution or replacement of the LSN, that has a significantly different technical basis from those discussed in the December 2017 NRC-prepared options paper (Agencywide Documents Access and Management System (ADAMS) Accession No. ML17347B671): (1) Provide information describing that option including, if practicable, any estimates regarding implementation time and costs; and (2) indicate whether the member wants to make a presentation at the meeting regarding that option and how much time would be needed for that presentation. Additionally, by February 13, 2018, LSNARP members are invited to provide written comments regarding any of the options set forth in the December 2017 NRC-prepared paper describing options for a reconstituted or replacement LSN.

ADDRESSES: You may submit written comments by Email to the LSNARP Chairman at: LSNARP@nrc.gov.

Agenda: The meeting will be held from 10:00 a.m. to 6:30 p.m. EST on Tuesday, February 27, 2018, and 10:00 a.m. to 5:00 p.m. EST on Wednesday, February 28, 2018. If attending the meeting in person, please plan your arrival to allow additional time (e.g., 15 to 30 minutes) for security screening. The preliminary agenda is listed below. Additional details regarding timing of presentations and changes to the agenda may be obtained through the contacts listed below and will be announced prior to the meeting.

The primary focus of the meeting will be on the options available for reconstituting the LSN's functionality. The NRC has prepared a paper describing the options to be examined and discussed at the meeting with the objective of soliciting the views of the LSNARP member organizations on the best path forward for reconstituting the LSN or developing a suitable replacement system if the Yucca Mountain licensing adjudication is resumed in the future. Additionally, at the conclusion of the February 27 meeting session, the NRC will provide an orientation session regarding the ADAMS LSN Library, which currently houses the documentary material previously accessible via the LSN and provides the technical basis for one of the options to be discussed at the meeting.

| EST/PST
February 27, 2018
Security Check-in for Onsite Attendees | 9:30 a.m./6:30 a.m.
Introduction and Overview | 10:00 a.m./7:00 a.m.
Meeting Process/Ground Rules
Status of Adjudicatory Proceeding
Status of E-Filing/Electronic Hearing Docket and
New Exhibit Submission Process
Break
History of the LSN
Introduction of LSN Reconstitution/Replacement Options and New Functional Requirements
Lunch
Option 1, Traditional Discovery
Member Comment and Discussion
Public Comments
Break
Option 2, NRC ADAMS LSN Library
Member Comment and Discussion
Public Comments
Wrap-up/Adjourn
Break
ADAMS LSN Library Orientation | (Approx. 1 Hour)
END OF DAY 1 | 6:30 p.m./3:30 p.m.
February 28, 2018
Security Check-in for Onsite Attendees | 9:30 a.m./6:30 a.m.
Introduction and Overview | 10:00 a.m./7:00 a.m.
Meeting Process/Ground Rules
Option 3, Move to the Cloud
Break
LSNARP Member Comment and Discussion
Public Comments
Lunch
Option 4, Rebuild the Original LSN
LSNARP Member Comment and Discussion
Public Comments
Break
Member Discussion Regarding Recommendations on Options
Wrap Up/Next Steps
Adjourn | 5:00 p.m./2:00 p.m.
END OF DAY 2

The agenda is subject to change.

Public Participation: Members of the public attending the meeting in person or virtually utilizing GoToWebinar or an audio-only telephone connection may provide oral comments to the LSNARP during the meeting or submit written comments during and after the meeting. Instructions for attending the meeting and providing comments virtually via GoToWebinar or an audio-only connection are outlined below and the process for providing comments will be explained during the LSNARP meeting.

Instructions for Virtual Attendance at the February 27-28, 2018, LSNARP Meeting by Members of the Public via GoToWebinar

LogMeIn, Inc.'s GoToWebinar will be the primary method for virtual (i.e., remote) attendance by members of the public (i.e., anyone other than a designated primary/secondary representative of an LSNARP member organization) ¹ to view and participate in, when appropriate, the February 27-28, 2018, LSNARP meeting. Additionally, audio-only attendance will be offered to members of the public via a toll-free telephone connection.

¹ LSNARP member organization representatives have been contacted separately and provided information on how to make video/audio connections if they wish to attend the LSNARP meeting virtually rather than in person.

Instructions for Viewing via GoToWebinar

Registration is required to view the meeting using GoToWebinar. To register, members of the public should access the following link at least several days before the meeting: https://attendee.gotowebinar.com/register/4882474129139440898. Once registered for the meeting at this link, a member of the public will receive a confirmation email that will contain the link and other connection information to be used to view the meeting.

A member of the public viewing the LSNARP meeting via GoToWebinar will be able to hear speaker presentations and any discussion with/among LSNARP member organization representatives through his/her computer/tablet speakers or telephone, but will not be able to talk to the presenters or LSNARP member representatives directly, as that audio connection will be muted until instances during the meeting when public comments/questions are requested.

When afforded an opportunity to comment and/or ask written questions, a member of the public connected via GoToWebinar and using (1) headphones or a microphone/speakers; or (2) the GoToWebinar-provided toll telephone connection will be able to employ the “Raise Your Hand” feature that will allow meeting organizers to recognize him/her by unmuting his/her audio so that the comment/question can be provided orally to all those attending the meeting in person and remotely. Alternatively, a member of the public viewing the meeting via GoToWebinar can submit a written comment/question using the GoToWebinar “Questions” feature, which permits text messages to be sent to meeting organizers who, in turn, will forward comments/questions for appropriate consideration during the meeting.

Members of the public with questions regarding the use of GoToWebinar should visit the GoToWebinar customer support page at https://support.logmeininc.com/gotowebinar. It is also recommended that members of the public run a computer system check (available on the GoToWebinar customer support page) prior to the LSNARP meeting.

Instructions for Audio-Only Remote Attendance

A member of the public wishing to participate via audio-only (both to listen and, when appropriate, to talk) can do so using the following toll-free telephone number and access code: (888) 395-2501/4652554. The telephone connection of a member of the public using this toll-free number to attend the LSNARP meeting will be muted until an opportunity for public comments/questions is afforded during the meeting. During the meeting, instructions will be given on how a member of the public attending via an audio-only connection can make a comment/ask a question.

SUPPLEMENTARY INFORMATION: The LSN was an internet-based electronic discovery database developed to aid the NRC in complying with the schedule for the decision on the construction authorization for the high-level waste repository contained in Section 114(d) of the Nuclear Waste Policy Act of 1982, as amended. In 1998, the NRC Rules of Practice in title 10 of the Code of Federal Regulations (10 CFR) part 2, subpart J, were modified to provide for the creation and operation of the internet-based LSN as the technological solution for the submission and management of documentary material relating to the licensing of a geologic repository for the disposal of high-level radioactive waste (63 FR 71729). Pursuant to 10 CFR 2.1011(d), the agency authorized the creation of the LSNARP, a FACA advisory committee chartered to provide advice to the NRC on, among other things, fundamental issues relating to LSN design, operation, maintenance, and compliance monitoring. In 2011, the original LSN was decommissioned, with the documentary material contained therein preserved by the NRC and currently residing in the ADAMS LSN Library, https://www.nrc.gov/reading-rm/lsn/index.html.

FOR FURTHER INFORMATION CONTACT: Mr. Russell Chazell, Office of the Secretary, U.S. Nuclear Regulatory Commission, Mail Stop O-16B33, Washington, DC 20555-0001; telephone 301-415-7469; email Russell.Chazell@nrc.gov or LSNARP@nrc.gov.

Dated at Rockville, Maryland, this 4th day of January, 2018.
For the Nuclear Regulatory Commission.
Annette L. Vietti-Cook,
Secretary of the Commission.

[FR Doc. 2018-00226 Filed 1-9-18; 8:45 am]

BILLING CODE 7590-01-P